DEPARTMENT OF TRANSPORTATION

Federal Aviation Administration

[Docket No. FAA-2025-1118]

Notice of Intent To Designate as Abandoned Edward L. Soncrant Supplemental Type Certificate No. SA4289WE

AGENCY: Federal Aviation Administration (FAA), DOT.

ACTION: Notice of intent to designate supplemental type certificate as abandoned; request for comments.

SUMMARY: This notice announces the FAA's intent to designate Edward L. Soncrant Supplemental Type Certificate (STC) No. SA4289WE as abandoned and make the related engineering data available upon request. The FAA has received a request to provide engineering data concerning this STC. The FAA has been unsuccessful in contacting Edward L. Soncrant concerning the STC. This action is intended to enhance aviation safety.

DATES: The FAA must receive all comments by December 22, 2025.

ADDRESSES: You may send comments on this notice by any of the following methods:

• Federal eRulemaking Portal: Go to regulations.gov. Follow the instructions for submitting comments.

• Mail: Ed Mills, AIR-771, Federal Aviation Administration, West Certification Branch, 2200 216th Street, Des Moines, WA 98189.

• Email: Ed.Mills@faa.gov. Include “Docket No. FAA-2025-1118” in the subject line of the message.

• Hand Delivery: Deliver to Mail address above between 9 a.m. and 5 p.m., Monday through Friday, except Federal holidays.

FOR FURTHER INFORMATION CONTACT: Ed Mills, Program Manager, AIR-771, FAA; telephone: 206-231-3515; email: Ed.Mills@faa.gov.

SUPPLEMENTARY INFORMATION:

Comments Invited

The FAA invites interested parties to provide comments, written data, views, or arguments relating to this notice. Send your comments using a method listed under the ADDRESSES section. Include “Docket No. FAA-2025-1118” at the beginning of your comments. The FAA will consider all comments received on or before the closing date. All comments received will be available in the docket for examination by interested persons.

Background

The FAA is posting this notice to inform the public that the FAA intends to designate Edward L. Soncrant STC No. SA4289WE as abandoned and subsequently release the related engineering data. Edward L. Soncrant STC No. SA4289WE is for installation of a Continental 0-200-A engine and McCauley 1A100 propeller; modified trim system; modified wheels and disc brakes; relocated fuel tank, battery, and instrument panel; and installation of a heated pitot tube, Cessna 50-amp alternator, and associated changes.

The FAA has received a third-party request for the release of the aforementioned engineering data under the provisions of the Freedom of Information Act (FOIA), 5 U.S.C. 552. The FAA cannot release commercial or financial information under FOIA without the permission of the data owner. However, in accordance with title 49 of the United States Code § 44704(a)(5), the FAA can provide STC “engineering data” it possesses for STC maintenance or improvement, upon request, if the following conditions are met:

1. The FAA determines the STC has been inactive for 3 years or more;

2. Using due diligence, the FAA is unable to locate the owner of record or the owner of record's heir; and

3. The availability of such data will enhance aviation safety.

There has been no activity on this STC for more than 3 years.

On April 29, 2025, the FAA sent a certified letter to Edward L. Soncrant at his last known address: 4103 Jacinto Way, Long Beach, California 90815. The letter was returned, unclaimed, and unable to be forwarded. The letter informed Edward L. Soncrant that the FAA had received a request for engineering data related to STC No. SA4289WE and was conducting a due diligence search to determine whether the STC was inactive and may be considered abandoned. The letter further requested that Edward L. Soncrant respond in writing within 60 days and state whether he is the holder of the STC. The FAA also attempted to make contact with Edward L. Soncrant by other means, including telephone communication, without success.

Information Requested

If you are the owner or heir or a transferee of STC No. SA4289WE or have any knowledge regarding who may now hold STC No. SA4289WE, please contact Ed Mills using a method described in this notice under FOR FURTHER INFORMATION CONTACT. If you are the heir of the owner, or the owner by transfer, of STC No. SA4289WE, you must provide a notarized copy of your government-issued identification with a letter and background establishing your ownership of the STC and, if applicable, your relationship as the heir to the deceased holder of the STC.

Conclusion

If the FAA does not receive any response by December 22, 2025, the FAA will consider STC No. SA4289WE abandoned, and the FAA will proceed with the release of the requested data. This action is for the purpose of maintaining the airworthiness of an aircraft and enhancing aviation safety.

Issued on June 18, 2025.
Steven W. Thompson,
Acting Deputy Director, Compliance & Airworthiness Division, Aircraft Certification Service.

[FR Doc. 2025-11692 Filed 6-24-25; 8:45 am]

BILLING CODE 4910-13-P